DEPARTMENT OF LABOR

Employment and Training Administration

Fisher-Rosemount Systems, Inc. d/b/a Emerson Process Management, a Division of Emerson Electric, Austin, TX; Dismissal of Application for Reconsideration

[TA-W-57,302]

Pursuant to 29 CFR 90.18(C) an application for administrative reconsideration was filed with the Director of the Division of Trade Adjustment Assistance for workers at Fisher-Rosemount Systems, Inc., d/b/a Emerson Process Management, a Division of Emerson Electric, Austin, Texas. The application contained no new substantial information which would bear importantly on the Department's determination. Therefore, dismissal of the application was issued.

TA-W-57,302; Fisher-Rosemount Systems, Inc. d/b/a Emerson Process Management, a Division of Emerson Electric, Austin, Texas (August 2, 2005).

Signed at Washington, DC this 5th day of August, 2005.
Timothy Sullivan,
Director, Division of Trade Adjustment Assistance.

[FR Doc. E5-4396 Filed 8-11-05; 8:45 am]

BILLING CODE 4510-30-P